DEPARTMENT OF HEALTH AND HUMAN SERVICES

Centers for Disease Control and Prevention

[60Day-21-0212; Docket No. CDC-2021-0069]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled the National Hospital Care Survey (NHCS). The goal of the project is to assess patient care in hospital-based settings, and to describe patterns of health care delivery and utilization in the United States.

DATES: CDC must receive written comments on or before September 17, 2021.

ADDRESSES: You may submit comments, identified by Docket No. CDC-2021-0069 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Hospital Care Survey (NHCS) (OMB Control No. 0920-0212, Exp. 03/31/2022)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request for National Hospital Care Survey (NHCS) includes the collection of all inpatient and ambulatory Uniform Bill-04 (UB-04) claims data or electronic health record (EHR) data, as well as the collection of hospital-level information via a questionnaire from a sample of 608 hospitals.

The National Ambulatory Medical Care Survey (NAMCS) was conducted intermittently from 1973 through 1985, and annually since 1989. The survey is conducted under authority of Section 306 of the Public Health Service Act (42 U.S.C. 242k). The National Hospital Discharge Survey (NHDS) (OMB No. 0920-0212, Exp. Date 01/31/2019), conducted continuously between 1965 and 2010, was the Nation's principal source of data on inpatient utilization of short-stay, non-institutional, non-Federal hospitals, and was the principal source of nationally representative estimates on the characteristics of inpatients including lengths of stay, diagnoses, surgical and non-surgical procedures, and patterns of use of care in hospitals in various regions of the country. In 2011, NHDS was granted approval by OMB to expand its content and to change its name to the National Hospital Care Survey (NHCS).

In May 2011, recruitment of sampled hospitals for the NHCS began. Hospitals in the NHCS are asked to provide data on all inpatients from their UB-04 administrative claims, or EHRs. Hospital-level characteristics and data on the impact of COVID-19 on the hospital are collected through an Annual Hospital Interview. NHCS will continue to provide the same national health-care statistics on hospitals that NHDS provided. Additionally, NHCS collects more information at the hospital level (e.g., volume of care provided by the hospital), which allow for analyses on the effect of hospital characteristics on the quality of care provided. NHCS data collected from UB-04 administrative claims and EHRs include all inpatient discharges, not just a sample. The confidential collection of personally identifiable information allows NCHS to link episodes of care provided to the same patient in the ED and/or OPD and as an inpatient, as well as link patients to the National Death Index (NDI) to measure post-discharge mortality, and Medicare and Medicaid data to leverage comorbidities. The availability of patient identifiers also makes analysis on hospital readmissions possible. This comprehensive collection of data makes future opportunities for surveillance possible, including analyzing trends and incidence of opioid misuse, acute myocardial infarction, heart failure and stroke, as well as trends and point prevalence of health care acquired infections and antimicrobial use.

Beginning in 2013, in addition to inpatient hospital data, hospitals participating in NHCS were asked to provide data on the utilization of health care services in their ambulatory settings (e.g., EDs and OPDs). Due to low response rates and high level of missing data, OPD data were not collected in the last approval period (2019, 2020 and 2021). Collection of OPD may resume in future years.

Data collected through NHCS are essential for evaluating the health status of the population, for the planning of programs and policy to improve health care delivery systems of the Nation, for studying morbidity trends, and for research activities in the health field. There are no changes to the data collection survey. The only change is to the burden hours due to the increase of the sample size. The new total annualized burden is 7,184 hours.

Estimated Annualized Burden Hours
Respondents | Form name | Number of respondents | Number of responses per respondent | Average burden per response (in hours) | Total burden (in hours)
Hospital DHIM or DHIT | Initial Hospital Intake Questionnaire | 150 | 1 | 1 | 136
Hospital CEO/CFO | Recruitment Survey Presentation | 150 | 1 | 1 | 136
Hospital DHIM or DHIT | Prepare and transmit UB-04 or State File for Inpatient and Ambulatory (monthly) | 408 | 12 | 1 | 4,896
Hospital DHIM or DHIT | Prepare and transmit EHR for Inpatient and Ambulatory (quarterly) | 200 | 4 | 1 | 800
Hospital CEO/CFO | Annual Hospital Interview | 608 | 1 | 2 | 1,216
Total |  |  |  |  | 7,184

Jeffrey M. Zirger,
Lead, Information Collection Review Office, Office of Scientific Integrity, Office of Science, Centers for Disease Control and Prevention.

[FR Doc. 2021-15229 Filed 7-16-21; 8:45 am]

BILLING CODE 4163-18-P